DEPARTMENT OF COMMERCE

National Oceanic and Atmospheric Administration

50 CFR Part 216

[Docket No. 251205-0178]

RIN 0648-BN39

Pribilof Islands Administration; Dogs Prohibited

AGENCY: National Marine Fisheries Service (NMFS), National Oceanic and Atmospheric Administration (NOAA), Commerce.

ACTION: Proposed rule; request for comments.

SUMMARY: NMFS proposes to revise regulations that prohibit dogs on the Pribilof Islands by creating an exception for NMFS to authorize certified and trained rodent detection dogs to respond to and prevent the establishment of invasive rodents on the Pribilof Islands. Invasive rodents could have significant consequences for the wildlife species that live and breed on the Pribilof Islands and the health and food security of community members. This action supports Tribal, local, and Federal agency efforts and is intended to promote the goals and objectives of the Fur Seal Act (FSA), the Marine Mammal Protection Act (MMPA), and other applicable laws.

DATES: Submit comments on or before January 12, 2026.

ADDRESSES: A plain language summary of this proposed rule is available at https://www.regulations.gov/docket/NOAA-NMFS-2025-0405. You may submit comments on this document, identified by NOAA-NMFS-2025-0405, by either of the following methods:

• Electronic Submission: Submit all electronic public comments via the Federal e-Rulemaking Portal. Go to www.regulations.gov and type NOAA-NMFS-2025-0405 in the Search box. Click the “Comment” icon, complete the required fields, and enter or attach your comments.

• Mail: Submit written comments to the Assistant Regional Administrator, Protected Resources Division, Alaska Region NMFS, P.O. Box 21668, Juneau, AK 99802-1668.

Instructions: Comments sent by any other method, to any other address or individual, or received after the end of the comment period may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of the draft Regulatory Impact Review prepared for this proposed rule may be obtained from www.regulations.gov.

FOR FURTHER INFORMATION CONTACT: Michael Williams, NMFS Alaska Region, 907-271-5117, michael.williams@noaa.gov.

SUPPLEMENTARY INFORMATION:

Authority for Action

The FSA (16 U.S.C. 1161-1169b) requires the Secretary of Commerce (Secretary) to administer Federal lands of the Pribilof Islands and ensure that activities on such Federal lands are consistent with the purposes of conserving, managing, and protecting northern fur seals, Callorhinus ursinus, and other wildlife. The Secretary is authorized to promulgate regulations necessary for the administration of the Pribilof Islands (16 U.S.C. 1169), which NMFS, acting pursuant to delegated authority, has promulgated at 50 CFR part 216, subpart G-Pribilof Islands Administration. NMFS manages northern fur seals consistent with both the FSA and MMPA.

Background

The current text of 50 CFR 216.82, “Dogs prohibited,” states: “In order to prevent molestation of fur seal herds, the landing of any dogs at Pribilof Islands is prohibited.” NMFS has interpreted the molestation of the fur seal herds to include physical disturbance and disease transmission by a dog or its feces.

An invasive rat was reported on St. Paul Island (of the Pribilof Islands) in June 2024. The introduction of an invasive rat (or invasive rodent) could have significant ecological consequences for the indigenous species that live and breed on the islands, including northern fur seals, which have been designated as depleted under the MMPA (53 FR 17888, May 18, 1988).

As such, the Aleut Community of St. Paul Island (ACSPI) and the U.S. Fish and Wildlife Service (USFWS) requested that NMFS consider allowing a rat detection dog to land on St. Paul Island for the purpose of confirming the presence of and locating any rats. NMFS has historically supported Tribal, local, and Federal agency efforts to prevent the introduction of invasive rodents on the Pribilof Islands. Invasive rodents include brown rats or Norway rats, black rats or roof rats, mice, and other less common species. Mice do not pose the same wildlife risk as rats, but have been observed killing seabird chicks, and also have a human health and zoonotic disease risk. Black rats generally avoid water, but have been observed on one of the Aleutian Islands.

NMFS has an MMPA section 119 (16 U.S.C. 1388) cooperative agreement (also referred to herein as a co-management agreement) with the ACSPI to share responsibility for the conservation of northern fur seals (and other marine mammal species) and the management of subsistence use (the agreement can be found at https://www.fisheries.noaa.gov/alaska/marine-mammal-protection/co-management-marine-mammals-alaska#tribal-government-of-st-paul). The co-management agreement between NMFS and ACSPI includes shared responsibility for management decisions regarding northern fur seal conservation and subsistence use through a co-management council, which is comprised of equal membership between NMFS and ACSPI. The co-management council process includes regular meetings.

The City of St. George, City of Saint Paul (16.10), ACSPI Tribal Code (7.05), and the State of Alaska (5 AAC 92.141) have promulgated regulations preventing rodents. The communities primarily carry the significant burden of preventing rodent invasions on St. Paul and St. George, including implementing increased biosecurity measures when the threat of invasive rodents occurs.

ACSPI has assumed the burden of rodent prevention on St. Paul Island since the late 1990s, after initiation of the program by the USFWS in 1993. Today, the prevention efforts include 75 specialized rodenticide and snap trap stations positioned around the harbor, fish processing plant, warehouses, and docks where rodents might escape from an arriving vessel. From 1995 through 1996, nine rats were found on St. Paul Island and all were dead. In 2018, the first live rat was detected in the fish processing plant and, after 10 months of active trapping and multiple detections, the rat was confirmed dead immediately outside the plant. No subsequent sightings occurred over the next 12 months, and no rats were sighted on St. Paul Island until the June 2024 sighting. St. George Island has never had a rat detection, suggesting that its rat prevention stations established around the harbor and landfill have been effective. St. George did respond to an invasive mouse event within the last decade, and St. Paul has had intermittent mouse detections over the past decade. Dutch Harbor, which has rats, is the closest port to the Pribilof Islands and is often the origin for local and regional cargo vessels and barges. Fishing vessels come to St. Paul and St. George for fuel, resupply, and emergencies, many of which originate from Dutch Harbor. The risk of rodent introductions to the Pribilof Islands is also growing primarily due to increased vessel traffic in the sub-arctic and Arctic for tourism. Vessels are the primary source of introductions of rats to islands worldwide (Drake and Hunt 2008).

Request From Multi-Agency Invasive Rat Task Force

In June 2024, the ACSPI and USFWS Alaska Maritime National Wildlife Refuge (USFWS AMNWR) contacted NMFS regarding the report of an invasive rat on St. Paul Island. NMFS staff participated in regular task force meetings between ACSPI, USFWS AMNWR, and U.S. Department of Agriculture to discuss the invasive rat situation. Multiple methods of detection have been implemented around the initial observation site on St. Paul Island, including motion sensing trail cameras, chew blocks, bait stations, and snap traps. No additional detections have been observed, but given the abundance of wild food for rats during the summer and fall, the task force expects that these methods may not yield additional detections of the rat if it is on island. After other methods of detection were unsuccessful and after numerous meetings, the task force determined that a dog specially trained in rat detection was the most likely method to detect any rats on St. Paul Island.

The Proposed Rule, Need for This Action, and Expected Effects

This rule would provide an exception to the current regulatory prohibition by allowing the Regional Administrator to authorize the use of rodent detection dogs to respond to any incidents that could otherwise lead to the establishment of a rodent population on any of the Pribilof Islands. NMFS believes the ecological benefits of successfully detecting and eradicating any invasive rodents on the Pribilof Islands outweigh the manageable risks of molestation of the fur seal herd and disease transmission from dogs or their feces. The potential environmental consequences of dogs on the Pribilof Islands include the exposure of indigenous wildlife to canine diseases transmitted through feces or urine and molestation of indigenous wildlife by an uncontrolled dog. After careful review, NMFS has preliminarily determined (pending consideration of public comments) that the landing of certified and trained rodent detection dogs, subject to certain conditions that would be imposed by NMFS, would not create any significant environmental risk to fur seals or other wildlife populations on the Pribilof Islands. These conditions would include: (1) the only dogs that could be authorized on the Pribilof Islands would be rodent detection dogs certified to have been trained for that purpose; (2) the certified rodent detection dog(s) will undergo any quarantine period required by the State of Alaska; (3) any such dog must have current immunizations and health certifications required by the State of Alaska; (4) any such dog must be under constant control (i.e., voice, electronic, or leash) by a professional dog handler; and (5) the handler will be responsible for feces management, including collecting all feces, securing all feces from exposure to indigenous wildlife, and disposing of all feces by incineration on the island from which it is collected.

There are certified and trained rodent detection dogs available through the U.S. Department of Agriculture and several private organizations.

The purpose of the current regulation at 50 CFR 216.82 is to prevent molestation of fur seals; NMFS has interpreted “molestation” as including physical disturbance and disease transmission by the dog or its feces. The current regulation allows no exceptions to the prohibition on the landing of dogs on the Pribilof Islands. NMFS is proposing to revise 50 CFR 216.82 to create a limited exception to allow landowners to request the Regional Administrator to authorize the landing of certified and trained rodent detection dogs for up to 180 days for the sole purpose of detecting and eradicating invasive rodents. The regulation would continue to prohibit the landing of dogs on the Pribilof Islands for any other purpose, including as household pets.

There are several potential rodent detection methods, including trail cameras, chew blocks, and baited snap traps. These methods, for example, have been deployed and monitored on St. Paul Island since the first sighting was reported in June 2024 in an attempt to confirm the initial rat sighting. No additional sightings have been made using these methods. These methods will continue to be used by ACSPI and USFWS to detect or capture the rat; however, they are known to be less effective than a trained rodent detection dog.

Since a rodent detection dog is much more effective than other methods, NMFS believes the ecological benefits of detecting and eradicating any invasive rodents through this rule outweigh the manageable risks of molestation of the fur seal herd and disease transmission from dogs or their feces. The dog(s) would be under constant control, so there is very little risk of molestation of the fur seal herd, or other wildlife, as contemplated in the original rulemaking (34 FR 13371, August 19, 1969). In addition, to minimize disease transmission, any dogs must have proof of current immunizations and health certifications required by the State of Alaska, and the handler would be responsible for collecting and disposing of all feces. Finally, the exception is limited to a total of 180 days per incident and is triggered when a dog or dogs are necessary for rodent detection on an island because of an incident that may potentially lead to the establishment of a rodent population on any of the Pribilof Islands. The 180-day limit applies based on the incident triggering the need for a rodent detection dog on that specific island. If two islands have rodent incidents, the dogs deployed to each island will be subject to separate 180-day limits. The 180-day period starts on the date of the dog's arrival on the island and is calculated by the total number of days the dog is present on that island. If for any reason the dog needs to depart prior to the 180-day limit, only those days that a dog was present on that island count toward the limit, and certified and trained rodent detection dog(s) would be allowed to return to the island for the remainder of the 180-day period if necessary for rodent detection. Each 180-day period will apply to the island and circumstances for which it was authorized. If new circumstances emerge after a 180-day period expires, the Regional Administrator would consider whether to authorize a new 180-day period based on the evidence available, including evidence of the presence of any rodents.

This rulemaking is meant to address the need of preventing the establishment of an invasive rodent population and improving the ability to detect invasive rodents on the Pribilof Islands. A single pregnant female rat is capable of breeding with her own male offspring with no negative genetic consequences, resulting in the creation of a viable new population (Costa et al., 2016). Rodents may predate on subsistence resources, such as seabirds, their eggs, and chicks (Angel et al., 2009). Cliff and burrow nesting seabirds on the islands use habitats that limit exposure to arctic fox predation, but those same habitats are particularly vulnerable to rats as cliffs and burrows do not limit their access to nests. In addition, rodents are common carriers of many diseases transmissible to humans, fur seals, and other wildlife, including Leptospirosis (Richardson et al., 2017).

While alternative methods have been deployed to try to locate the rat or signs of its presence without importing a rat detection dog to St. Paul Island, those methods to date have not located the rat. ACSPI and USFWS will continue to deploy and monitor for the presence and signs of a rat in 2025 while NMFS pursues this rulemaking to create a regulatory exception that would apply to all of the Pribilof Islands. While this rulemaking was initiated by the local observation on St. Paul Island in 2024, the risk of invasive rodents being introduced to any of the Pribilof Islands has grown in the past decade due largely to an increase in vessel and cruise ship traffic. As such, this rule would allow a landowner to respond to an incident involving an invasive rodent by requesting NMFS's authorization for an exception to land a rodent detection dog. The exception would remain in effect for up to 180 days from the date of the dog's first landing on the island with the rodent incident, allowing for the logistical challenges involved in arranging for landing an invasive rodent detection dog on the Pribilof Islands, and having adequate time to detect rodents if present on the Pribilof Islands.

This rulemaking is not likely to have adverse economic impacts on small businesses or the economies of St. Paul or St. George Islands. NMFS intends for this action to apply to the Pribilof Islands, not just St. Paul and St. George, because the risk of shipwrecks introducing rodents is also possible on the uninhabited islands. Not taking this action and allowing the invasive rat to persist or allowing an invasive rodent to otherwise become established on St. Paul could result in negative environmental impacts, which could in turn impact the wildlife-viewing tourist economy managed by the Tanadgusix (TDX) Corporation, the local Alaska Native Claims Settlement Act village corporation for St. Paul. There is no similar tourism economy on St. George Island, only the incidental revenue from hotel occupancy operated by the Tanaq Corporation, the local Alaska Native Claims Settlement Act village corporation for St. George. The communities of St. Paul and St. George also rely on marine and terrestrial species breeding on the Pribilof Islands for subsistence purposes and food security that could be affected by an invasive rodent introduction. The TDX Corporation and Tanaq Corporation may be affected as the dog may need to search on their lands. The landowner who requests authorization to land a dog or dogs on island would be responsible for obtaining permission from other landowners before any search occurs on their properties.

Scope of Proposed and Potential Regulatory Changes and Request for Comment

In this proposed rule, NMFS would revise the regulations at 50 CFR 216.82 to allow an exception, lasting up to 180 total days a dog (or dogs) is on island, to the regulatory prohibition against landing dogs on the Pribilof Islands in order to land certified and trained rodent detection dogs on the Pribilof Islands to support Tribal, local, and Federal agency efforts to detect, locate, and eradicate any invasive rodents on the Pribilof Islands. This exception would allow certified and trained rodent detection dogs on the Pribilof Islands. This regulatory change would respond to the June 2024 report of an invasive rat on St. Paul Island but also allows flexibility for NMFS to authorize landowners to land certified and trained rodent detection dogs on any of the Pribilof Islands to respond to any future incidents, such as a shipwreck or observations of invasive rodents on the Pribilof Islands.

Rather than proposing a one-time exemption for this current incident on St. Paul Island, NMFS proposes to create an exception to the regulatory prohibition of dogs to last up to 180 days in order to land certified and trained rodent detection dogs on any of the Pribilof Islands as needed to respond to and prevent the introduction of invasive rodents. This would allow a timely response to any incident that may potentially lead to the establishment of a rodent population on any of the Pribilof Islands. The exception would allow for a landowner to request the NMFS Alaska Regional Administrator to authorize the landing of certified and trained rodent detection dogs on any of the Pribilof Islands for 180 days to search for, detect, and eradicate rodents. The implementation of the exception will balance the need to reduce exposure of seasonal wildlife, the availability of human and wild food sources, refuge from the weather, and the urgency of the incident being considered in terms of the likelihood of rodents establishing a population on the Pribilof Islands.

The landowners would be responsible for providing the evidence of the rodent sighting, certification the dog(s) have been trained for rodent detection, immunization and health certification records for the dog(s) to be used to detect rodents, the expected duration and location of the search, any permissions needed for searches on lands owned by others, number of dogs expected to be used, and the feces management plan to NMFS. NMFS will review the information provided and the Regional Administrator may authorize the exception in writing to the landowner within 10 working days of receipt of the completed information package so that, if the request is approved, the certified and trained dog(s) could be secured and transported to the island in a timely manner for rodent detection. When authorizing the use of rodent detection dog(s), the Regional Administrator may impose conditions on their use on the specified Pribilof Island to address and mitigate the potential risks of molestation of the fur seal herd and disease transmission from dogs or their feces. Such conditions could include requirements for the control and handling of the dogs and dog feces by a professional dog handler while the dogs are on the Pribilof Island, compliance with any required quarantine period, and direction for the Pribilof Island landowner to communicate to NMFS when the dog(s) arrive and depart the Island, where the searches occurred, when the searches were completed, and whether any invasive rodents were detected. This action does not create any other exceptions to the existing prohibition on landing dogs on the Pribilof Islands, including household pets.

Classification

The Assistant Administrator for Fisheries, NOAA, has determined that this proposed rule is consistent with the FSA (16 U.S.C. 1161-1169b), the MMPA, and other applicable laws, subject to further consideration after public comment. In the development of this proposed rule, NMFS worked with the ACSPI pursuant to the NMFS and ACSPI's co-management agreement under the MMPA (16 U.S.C. 1388(a)).

Executive Order 12866

This proposed rule has been determined to be not significant for the purposes of Executive Order 12866.

Executive Order 14192

This proposed rule is not an Executive Order 14192 regulatory action because this rule is not significant under Executive Order 12866.

Executive Order 13175

As noted in the preamble, the ACSPI and USFWS have requested that NMFS implement this rule to revise the FSA regulations to authorize rodent detection dogs to land on the Pribilof Islands. NMFS has worked collaboratively and had frequent communication with the ACSPI as part of a multi-agency invasive rodent task force and pursuant to the NMFS and ACSPI's co-management agreement under the MMPA. NMFS also contacted the local Alaska Native Corporation on St. Paul Island (Tanadgusix Corporation, TDX) about revising the regulations regarding the landing of rodent detection dogs on St. Paul Island. Neither the Alaska Native Tribe on St. Paul Island (ACSPI) nor the TDX Corporation expressed opposition to this rule. Similarly, NMFS contacted the Traditional Council of St. George Island, and their local Native Corporation (Tanaq Corporation) about revising the regulations regarding the landing of certified and trained rodent detection dogs and determined there was no opposition. Given the level of Tribal engagement in the course of responding to this issue and developing this proposed rule, Tribal consultation was not held on the proposed rule.

A Tribal summary impact statement under section (5)(b)(2)(B) and section (5)(c)(2) of E.O. 13175 was not required for this proposed rule because this action does not impose substantial direct compliance costs on Alaska Native Tribal Governments and this action does not preempt Tribal law. A Tribal summary impact statement is not required and has not been prepared.

Regulatory Impact Review (RIR)

An RIR was prepared to assess costs and benefits of available regulatory alternatives. A copy of this draft analysis is available from NMFS (see ADDRESSES).

Regulatory Flexibility Act

The Chief Counsel for Regulation of the Department of Commerce certified to the Chief Counsel for Advocacy of the Small Business Administration that this proposed rule, if adopted, would not have a significant economic impact on a substantial number of small entities. The factual basis for this determination is as follows.

The current regulation prohibits landing of all dogs on the Pribilof Islands. This proposed rule would create a limited exception for the NMFS Alaska Regional Administrator to authorize the landing of certified and trained rodent detection dogs on the Pribilof Islands for 180 days subject to certain conditions that would be imposed by the Regional Administrator to prevent the molestation of fur seals and other wildlife by such dogs. The statutory authority and the need for this action, as well as expected effects, are described in the preamble above. NMFS also prepared a Regulatory Impact Review that analyzed alternatives, including the status quo. The establishment of invasive rodents on the Pribilof Islands could result in negative environmental and ecological impacts that could in turn impact the wildlife-viewing tourist economy managed by the TDX Corporation and Tanaq Corporation and the communities of St. Paul and St. George that rely on marine and terrestrial species breeding on the Pribilof Islands for subsistence purposes and food security.

Implementing this proposed rule would help prevent the establishment of invasive rodents on the Pribilof Islands, which in turn could provide a means to protect the tourist economy, subsistence resources that contribute to food security and the mixed cash-subsistence economy, and public health costs from rodent-borne diseases. This exception proposed in this action would create the flexibility and opportunity for landowners on the Pribilof Islands to hire and utilize the services of a certified and trained rodent detection dog handler to prevent invasive rodents from establishing a population on the Pribilof Islands. Entities that would be directly regulated by this proposed rule are limited to any Pribilof Islands landowner who requests invasive rodent detection services and the service provider. Landowners on the Pribilof Islands include the Federal government, municipal governments of St. Paul and St. George, and the TDX Corporation and Tanaq Corporation. In addition to private companies, other Federal agencies, such as the U.S. Department of Agriculture, may have rodent detection dogs available.

The use of certified and trained rodent detection dogs will help to successfully locate and remove any invasive rodents from the Pribilof Islands, which will protect sensitive wildlife, subsistence resources necessary to maintain food security, wildlife and communities that may be exposed to invasive rodent-borne diseases, and the small wildlife tourism economy on the Pribilof Islands. Therefore, it is expected that the proposed action could have a beneficial economic effect on any small entities by creating the opportunity to detect invasive rodents on the Pribilof Islands with certified and trained dogs. As a result, an initial regulatory flexibility analysis is not required and none has been prepared.

Collection-of-Information Requirements

This proposed rule contains no information collection requirements under the Paperwork Reduction Act of 1995. NOAA is not soliciting the information from the public and therefore is not conducting a collection of information. NOAA will respond to a request from an individual landowner on the Pribilof Islands for assistance in obtaining an exception to use a certified and trained rodent detection dog on the Pribilof Islands.

References

Angel, A., Wanless, R.M. and J. Cooper. Review of impacts of the introduced house mouse on islands in the Southern Ocean: are mice equivalent to rats?. Biological Invasions 11, 1743-1754 (2009). https://doi.org/10.1007/s10530-008-9401-4.

Costa, F., J.L. Richardson, K. Dion, C. Mariani, A.C. Pertile, M.K. Burak, J.E. Childs, A.I. Ko, and A. Caccone, Multiple Paternity in the Norway Rat, Rattus norvegicus, from Urban Slums in Salvador, Brazil, Journal of Heredity, Volume 107, Issue 2, March 2016, Pages 181-186, https://doi.org/10.1093/jhered/esv098.

Drake, D.R., Hunt, T.L. Invasive rodents on islands: integrating historical and contemporary ecology. Biological Invasions 11, 1483-1487 (2009). https://doi.org/10.1007/s10530-008-9392-1.

Richardson, J.L., Burak, M.K., Hernandez, C., et al. Using fine-scale spatial genetics of Norway rats to improve control efforts and reduce leptospirosis risk in urban slum environments. Evolutionary Applications. 2017; 10: 323-337. https://doi.org/10.1111/eva.12449.

List of Subjects in 50 CFR Part 216

Alaska, Pribilof Islands.

Dated: December 5, 2025.
Samuel D. Rauch, III,
Deputy Assistant Administrator for Regulatory Programs, National Marine Fisheries Service.

For the reasons set out in the preamble, 50 CFR part 216 is amended as follows:

PART 216—REGULATIONS GOVERNING THE TAKING AND IMPORTING OF MARINE MAMMALS

1. The authority citation for 50 CFR part 216 continues to read as follows:

Authority: 16 U.S.C. 1361 et seq., unless otherwise noted.

2. In Section 216.82 add paragraphs (a) and (b) to read as follows:

§ 216.82 Dogs prohibited.

(a) In order to prevent molestation of fur seal herds, the landing of any dogs at Pribilof Islands is prohibited.

(b) Exception to prevent the establishment of invasive rodents on the Pribilof Islands. The NMFS Alaska Regional Administrator may authorize the landing of certified and trained rodent detection dogs on an island in the Pribilof Islands, subject to the following:

(1) A Pribilof Island landowner must submit a request for authorization to land a rodent detection dog on a Pribilof Island in writing to the NMFS Alaska Regional Administrator and must include the following information:

(i) Evidence of rodent presence on a Pribilof Island;

(ii) Certification that the dog has been trained for rodent detection;

(iii) Certification that the dog will be under the constant voice, electronic, or leash control of a professional dog handler, or otherwise confined, while on the Pribilof Island;

(iv) Proof that the dog has undergone any quarantine period required by the State of Alaska;

(v) Current immunization and health certifications required by the State of Alaska;

(vi) The number of dogs expected to be used;

(vii) The professional dog handler's written plan for collecting and incinerating dog feces;

(viii) The expected duration and location of rodent searches on the Pribilof Island; and

(ix) Any other information requested by the Regional Administrator.

(2) After receipt of a complete request, within [10] days, the NMFS Alaska Regional Administrator may authorize the landing of one or more certified and trained rodent detection dogs and impose conditions on their use on the specified Pribilof Island.

(3) No certified and trained rodent detection dog authorized by the NMFS Alaska Regional Administrator may be on the specified Pribilof Island for more than 180 total days from landing on that Island.

[FR Doc. 2025-22542 Filed 12-10-25; 8:45 am]

BILLING CODE 3510-22-P